DEPARTMENT OF ENERGY

Bonneville Power Administration

Availability of the Bonneville Purchasing Instructions and Bonneville Financial Assistance Instructions

AGENCY: Bonneville Power Administration, DOE.

ACTION: Notice of document availability.

SUMMARY: Copies of the Bonneville Purchasing Instructions (BPI) which establishes the procedures Bonneville Power Administration (BPA) uses in the solicitation, award, and administration of its purchases of goods and services, including construction, and the Bonneville Financial Assistance Instructions (BFAI) which establishes the procedures BPA uses in the solicitation, award, and administration of financial assistance instruments (principally grants and cooperative agreements) are available from BPA for $30 and $15 each, respectively, or available without charge at the following Internet addresses:

http://www.bpa.gov/Corporate/kgp/bpi/bpi.htm and

http://www.bpa.gov/corporate/kgp/bfai/bfai.htm.

ADDRESSES: Copies of the BPI or BFAI may be obtained by sending a check for the proper amount to the Head of the Contracting Activity, Routing CC, Bonneville Power Administration, P.O. Box 3621, Portland, Oregon 97208-3621.

FOR FURTHER INFORMATION CONTACT: The Manager, Corporate Communications, 1-800-622-4519.

SUPPLEMENTARY INFORMATION: BPA was established in 1937 as a Federal Power Marketing Agency in the Pacific Northwest. BPA operations are financed from power revenues as opposed to annual appropriations. Its purchasing operations are conducted under 16 U.S.C. 832 et seq. and related statutes, pursuant to these special authorities, the BPI is promulgated as a statement of purchasing policy and as a body of interpretative regulations governing the conduct of BPA purchasing activities. It is significantly different from the Federal Acquisition Regulation, and reflects BPA's private sector approach to purchasing the goods and services that it requires. BPA's financial assistance operations are conducted under 16 U.S.C. 832 et seq., and 16 U.S.C. 839 et seq. The BFAI express BPA's financial assistance policy. The BFAI also comprise BPA's rules governing implementation of the principles provided in the following OMB circulars:

A-21 Cost principles applicable to grants, contracts, and other agreements within institutions of higher education.

A-87 Cost principles applicable to grants, contracts, and other agreements with State and local governments.

A-102 Uniform administrative requirements for grants in aid to State and local governments, and the common rule.

A-110 Grants and agreements with institutions of higher education, hospitals and other nonprofit organizations.

A-122 Cost principles applicable to grants, contracts, and other agreements with nonprofit organizations.

A-133 Audits of States, Local Governments and Non-Profit Organizations.

BPA's solicitations include notice of applicability and availability of the BPI and the BFAI, as appropriate, for the information of offerors on particular purchases or financial assistance transactions.

Issued in Portland, Oregon, on September 26, 2000.
Kenneth R. Berglund,
Manager, Contracts and Property Management.

[FR Doc. 00-25923 Filed 10-6-00; 8:45 am]

BILLING CODE 6450-01-P